DEPARTMENT OF COMMERCE

National Oceanic and Atmospheric Administration

50 CFR Part 660

[Docket No. 011218302-1302-01; 091202B]

Fisheries Off West Coast States and in the Western Pacific; Coastal Pelagic Species Fisheries; Closure of the Fishery for Pacific Sardine North of Pt. Piedras Blancas, CA

AGENCY: National Marine Fisheries Service (NMFS), National Oceanic and Atmospheric Administration (NOAA), Commerce.

ACTION: Closure of the fishery for Pacific sardine north of Pt. Piedras Blancas.

SUMMARY: NMFS announces the closure of the fishery for Pacific sardine in the U.S. exclusive economic zone off the Pacific coast north of Pt. Piedras Blancas, CA, (35° 40' N. lat.) at 0001 hrs local time on September 14, 2002. The closure will remain in effect until the reallocation of the remaining portion of the coast wide harvest guideline is required by the Coastal Pelagics Species Fishery Management Plan (FMP). That reallocation is expected to occur on or about October 1, 2002. The purpose of this action is to comply with the allocation procedures mandated by the FMP.

DATES: Effective 0001 hrs September 14, 2002, through December 31, 2002, or until the harvest guideline is reallocated by notice in the Federal Register.

ADDRESSES: The data that was used as the basis for this action is available for public inspection at the Office of the Acting Regional Administrator, Rodney R. McInnis, Southwest Region (Regional Administrator), NMFS, 501 W. Ocean Boulevard, Suite 4200, Long Beach, CA 90802-4213.

FOR FURTHER INFORMATION CONTACT: James J. Morgan, Southwest Region, NMFS, (562) 980-4036.

SUPPLEMENTARY INFORMATION: The harvest guideline for Pacific sardine for the 2002 fishing season was published at 66 FR 66811 (December 27, 2001). For the fishing season January 1, 2002, through December 31, 2002, the harvest guideline for the Pacific coast of 118,442 mt was calculated according to the formula in the FMP, of which 39,481 mt was allocated north of Pt. Piedras Blancas, CA, and 78,961 mt was allocated south of Pt. Piedras Blancas, CA, according to the allocation procedure in the FMP. The procedure was adopted to prevent any segment of the fishing industry from gaining an unfair harvesting advantage due to the regional availability of sardine as it migrates along the U.S. West coast. On October 1 of each year, the remaining harvest guideline north and south of Pt. Piedras Blancas, CA, is totaled and divided equally between the two areas. Fishermen will be notified of the reallocation by marine radio and/or by NMFS hotline.

As of August 26, 2002, 32,002 mt of the 39,481-mt allocation north of Pt. Piedras Blancas, CA, had been landed. The harvest rate indicates that 39,481 mt will be reached on September 13, 2002, which requires that the fishery north of Pt. Piedras Blancas, CA, be closed until calculations can be completed on the harvest guideline remaining so that reallocation can occur on or about October 1, 2002. Permit holders were notified of this closure via letters mailed September 6, 2002, and via the Southwest Region website at http://caldera.sero.nmfs.gov. For the reasons stated here and in accordance with the FMP and its implementing regulations at 50 CFR 660.508, the fishery for Pacific sardine north of Pt. Piedras Blancas, CA, will be closed at 0001 hrs September 14, 2002, through December 31, 2002, or until the harvest guideline is reallocated by notice in the Federal Register except that up to 45 percent by weight of Pacific mackerel, northern anchovy, jack mackerel, or market squid may consist of Pacific sardine.

Classification

This action is required by 50 CFR 660.509 and is exempt from review under Executive Order 12866.

Authority: Authority: 16 U.S.C. 1801 et seq.

Dated: September 13, 2002.
John H. Dunnigan,
Director, Office of Sustainable Fisheries, National Marine Fisheries Service.

[FR Doc. 02-23739 Filed 9-13-02; 3:52 pm]

BILLING CODE 3510-22-S